DEPARTMENT OF TRANSPORTATION

Federal Aviation Administration

14 CFR Part 39

[Docket No. FAA-2012-0087; Directorate Identifier 2011-SW-029-AD; Amendment 39-17091; AD 2012-12-11]

RIN 2120-AA64

Airworthiness Directives; Bell Helicopter Textron Canada, Limited, Helicopters

AGENCY: Federal Aviation Administration (FAA), DOT.

ACTION: Final rule.

SUMMARY: We are adopting a new airworthiness directive (AD) for Bell Helicopter Textron Canada (Bell) Model 206, 206A, 206A-1, 206B, 206B-1, 206L, 206L-1, 206L-3, and 206L-4 helicopters, with Aviation Specialties Unlimited, Inc. (ASU), Night Vision Imaging System (NVIS) lighting modified by Supplemental Type Certificate SR01383SE (STC). This AD requires determining the date of STC installation, determining if the aircraft has an unfiltered turbine outlet temperature (TOT) internal over-temperature warning light, and based on those findings, installing an NVIS filter. This AD was prompted by the finding that an unfiltered TOT indicator over-temperature warning light, when illuminated, created glare and reflections that could degrade the pilot's view while using night vision goggles thereby creating an unsafe condition. The actions of this AD are intended to modify any unfiltered TOT indicator unit over-temperature warning light by installing a filter to prevent degradation of the pilot's vision while using night vision goggles and to prevent subsequent loss of control of the helicopter.

DATES: This AD is effective July 24, 2012.

ADDRESSES: For service information identified in this AD, contact Aviation Specialties Unlimited, Inc., 4632 Aeronca Street, Boise, Idaho 83705; telephone (208) 426-8117; fax (208) 426-8975; or http://www.asu-nvg.com/. You may review the referenced service information at the FAA, Office of the Regional Counsel, Southwest Region, 2601 Meacham Blvd., Room 663, Fort Worth, Texas 76137.

Examining the AD Docket: You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Kathleen Arrigotti, Aviation Safety Engineer, Seattle Aircraft Certification Office, Transport Airplane Directorate, FAA, 1601 Lind Avenue SW., Renton, WA 98057; telephone (425) 917-6426; email kathleen.arrigotti@faa.gov.

SUPPLEMENTARY INFORMATION:

Discussion

On February 3, 2012, at 77 FR 5423, the Federal Register published our notice of proposed rulemaking (NPRM), which proposed to amend 14 CFR part 39 to include an AD that would apply to Bell Model 206, 206A, 206A-1, 206B, 206B-1, 206L, 206L-1, 206L-3, and 206L-4 helicopters, modified with ASU NVIS lighting installed per STC SR01383SE. That NPRM proposed to require, within 30 days or 50 hours time-in-service, whichever occurs first, determining the date of the STC installation. If the date is on or before April 6, 2011, or is undocumented, the NPRM proposed to require determining if the TOT indicator unit has an internal over-temperature warning light. If the unit has an unfiltered internal over-temperature warning light, the NPRM proposed to require installing an NVIS filter, part number (P/N) ASU-TOTGAG-1. The proposed requirements were intended to modify any unfiltered TOT indicator unit over-temperature warning light by installing a filter to prevent degradation of the pilot's vision while using night vision goggles and to prevent subsequent loss of control of the helicopter.

Comments

We gave the public the opportunity to participate in developing this AD, but we did not receive any comments on the NPRM.

FAA's Determination

We have reviewed the relevant information and determined that an unsafe condition exists and is likely to exist or develop on other helicopters of these same type designs and that air safety and the public interest require adopting the AD requirements as proposed except for an editorial change. We have revised the “Differences Between This Proposed AD and the Service Information” section to include a statement about this AD applying to Model 206A-1 helicopters, whereas the service information does not. This change is consistent with the intent of the proposal and will not increase the economic burden on any operator nor increase the scope of the AD.

Related Service Information

We reviewed ASU Alert Service Bulletin No. ASU 206-2010-11-1, dated November 4, 2010 (ASB) for the Bell Helicopter Textron 206 series helicopters. The ASB states to visually inspect each helicopter to determine if the TOT indicator/gauge has an internal over-temperature warning light installed. If the over-temperature warning light is internal, the ASB specifies notifying ASU. ASU states it will immediately ship an NVIS filter, P/N ASU-TOTGAG-1.

Differences Between This AD and the Service Information

This AD does not apply to helicopters modified by the STC after April 6, 2011, because a new design was approved for the STC on April 6, 2011, and contained instructions to install the NVIS over-temperature indicator light filter. This AD applies to Model 206A-1 helicopters, whereas the service information does not. This AD does not require you to notify ASU.

Costs of Compliance

We estimate that this AD will affect 34 helicopters of U.S. Registry.

We estimate that operators may incur the following costs in order to comply with this AD: Determining the date, inspecting for an unfiltered, over-temperature TOT indicator light in the cockpit, and installing a filter will take about 1.8 work-hours at $85 per work-hour. A filter will cost about $300. The total cost will be $15,402 assuming the filter will be installed on the entire fleet

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-12-11 BELL HELICOPTER TEXTRON CANADA, LIMITED (BELL): Amendment 39-17091; Docket No. FAA-2012-0087; Directorate Identifier 2011-SW-029-AD.

(a) Applicability

This AD applies to Model 206, 206A, 206A-1, 206B, 206B-1, 206L, 206L-1, 206L-3, and 206L-4 helicopters, certificated in any category, modified with Aviation Specialties Unlimited, Inc. (ASU), Night Vision Imaging System (NVIS) lighting installed per Supplemental Type Certificate (STC) SR01383SE.

(b) Unsafe Condition

This AD defines the unsafe condition as an unfiltered turbine outlet temperature (TOT) indicator over-temperature warning light, when illuminated, creating glare and reflections that could degrade the pilot's view through night vision goggles. This condition could result in loss of control of the helicopter.

(c) Effective Date

This AD becomes effective July 24, 2012.

(d) Compliance

You are responsible for performing each action required by this AD within the specified compliance time unless it has already been accomplished prior to that time.

(e) Required Actions

Within 30 days or 50 hours time-in-service, whichever occurs first:

(1) Determine the date of the STC installation.

(2) If the date of the STC installation is on or before April 6, 2011, or the date is undocumented, determine whether the cockpit TOT indicator unit has an unfiltered internal over-temperature warning light. If the unit has an unfiltered internal over-temperature warning light, install an NVIS filter, part number ASU-TOTGAG-1.

(f) Alternative Methods of Compliance (AMOCs)

(1) The Manager, Seattle Aircraft Certification Office, FAA, may approve AMOCs for this AD. Send your proposal to: Kathleen Arrigotti, Aviation Safety Engineer, Seattle Aircraft Certification Office, Transport Airplane Directorate, FAA, 1601 Lind Avenue SW., Renton, WA 98057; telephone (425) 917-6426; email 9-ANM-Seattle-ACO-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

Aviation Specialties Unlimited, Inc., Alert Service Bulletin No. ASU 206-2010-11-1, dated November 4, 2010, which is not incorporated by reference, contains additional information about the subject of this AD. For service information identified in this AD, contact Aviation Specialties Unlimited, Inc., 4632 Aeronca Street, Boise, Idaho 83705; telephone (208) 426-8117; fax (208) 426-8975; or http://www.asu-nvg.com/. You may review this service information at the FAA, Office of the Regional Counsel, Southwest Region, 2601 Meacham Blvd., Room 663, Fort Worth, Texas 76137.

(h) Subject

Joint Aircraft Service Component (JASC) Code: 7722, Engine EFT/TOT Indicating System.

Issued in Fort Worth, Texas, on June 7, 2012.
Kim Smith,
Manager, Rotorcraft Directorate, Aircraft Certification Service.

[FR Doc. 2012-14804 Filed 6-18-12; 8:45 am]

BILLING CODE 4910-13-P